NUCLEAR REGULATORY COMMISSION

[Docket No. 50-336]

Northeast Nuclear Energy Company; Notice of Withdrawal of Application for Amendment to Facility Operating License

The U.S. Nuclear Regulatory Commission (the Commission) has granted the request of Northeast Nuclear Energy Company (the licensee) to withdraw part of its December 14, 1999, application as supplemented February 11, March 30, and April 26, 2000, for proposed amendment to Facility Operating License No. DPR-65 for the Millstone Nuclear Power Station, Unit No. 2, located in Waterford, Connecticut.

By letter dated April 28, 2000, we issued Amendment No. 245 approving the proposed changes with the exception of those changes related to technical specification (TS) Section 3.9.11, “Refueling Operations—Water Level—Reactor Vessel.” These proposed changes would have revised the terminology, applicability, surveillance requirements, and the associated action statement for TS Section 3.9.11, “Refueling Operations—Water Level—Reactor Vessel.”

The Commission had previously issued a Notice of Consideration of Issuance of Amendment published in the Federal Register on March 17, 2000 (65 FR 14632). However, by letter dated April 26, 2000, the licensee withdrew a portion of the amendment request.

For further details with respect to this action, see the application for amendment dated December 14, 1999, as supplemented February 11, March 30, and April 26, 2000, and the licensee's letter dated April 26, 2000, which withdrew the portion of the application related to TS Section 3.9.11. The above documents are available for public inspection at the Commission's Public Document Room, the Gelman Building, 2120 L Street, NW., Washington, DC, and accessible electronically through the ADAMS Public Electronic Reading Room link at the NRC Web site (http://www.nrc.gov).

Dated at Rockville, Maryland, this 24th day of May 2000.
For the Nuclear Regulatory Commission.
Jacob I. Zimmerman,
Project Manager, Section 2, Project Directorate I, Division of Licensing Project Management, Office of Nuclear Reactor Regulation.

[FR Doc. 00-13690 Filed 5-31-00; 8:45 am]

BILLING CODE 7590-01-P